DEPARTMENT OF STATE

[Public Notice 10625]

30-Day Notice of Proposed Information Collection: Request To Change End User, End Use and/or Destination of Hardware

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to January 25, 2019.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Andrea Battista, who may be reached on 202-663-3136 or at battistaal@state.gov.

SUPPLEMENTARY INFORMATION:

• Title of Information Collection: Request to Change End User, End Use and/or Destination of Hardware.

• OMB Control Number: 1405-0173.

• Type of Request: Extension of a Currently Approved Collection.

• Originating Office: Directorate of Defense Trade Controls (DDTC).

• Form Number: DS-6004.

• Respondents: Business or Nonprofit Organizations.

• Estimated Number of Respondents: 500.

• Estimated Number of Responses: 500.

• Average Time per Response: 1 hour.

• Total Estimated Burden Time: 500 hours.

• Frequency: On occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Request to Change End-User, End-Use and/or Destination of Hardware information collection is used to request DDTC approval prior to any sale, transfer, transshipment, or disposal, whether permanent or temporary, of classified or unclassified defense articles to any end-user, end-use or destination other than as stated on a license or other approval.

Methodology

Currently, there is no option of electronic submission of this information. Submissions are made via hardcopy documentation. Applicants are referred to ITAR § 123.9 for guidance on information to submit regarding the request to change end-user, end-use and/or destination of hardware. Upon implementation of DDTC's new case management system, The Defense Export Control and Compliance System (DECCS), a DS-6004 may be submitted electronically.

Anthony M. Dearth,
Chief of Staff, Directorate of Defense Trade Controls, U.S. Department of State.

[FR Doc. 2018-27778 Filed 12-21-18; 8:45 am]

BILLING CODE 4710-25-P